ENVIRONMENTAL PROTECTION AGENCY

40 CFR Part 300

[EPA-HQ-SFUND-1983-0002; FRL-9995-25-Region 9]

National Oil and Hazardous Substances Pollution Contingency Plan; National Priorities List: Deletion of the MGM Brakes Superfund Site

AGENCY: Environmental Protection Agency (EPA).

ACTION: Proposed rule; notice of intent.

SUMMARY: The Environmental Protection Agency (EPA) Region 9 is issuing a Notice of Intent to Delete MGM Brakes Superfund Site (Site) located in Cloverdale, Sonoma County, California, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the State of California, through the Department of Toxic Substances Control, have determined that all appropriate response actions under CERCLA have been completed. However, this deletion does not preclude future actions under Superfund.

DATES: Comments must be received by July 18, 2019.

ADDRESSES: Submit your comments, identified by Docket ID no. EPA-HQ-SFUND-1983-0002, by one of the following methods:

• http://www.regulations.gov Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

• Email: trombadore.olivia@epa.gov.

• Mail: Olivia Trombadore, Remedial Project Manager, U.S. Environmental Protection Agency, Region 9, SFD-9-2, 75 Hawthorne St., San Francisco, CA, 94105, (415) 972-3973.

• Hand delivery: Olivia Trombadore, Remedial Project Manager, U.S. Environmental Protection Agency, Region 9, SFD-9-2, 75 Hawthorne St., San Francisco, CA, 94105, (415) 972-3973. Such deliveries are only accepted during the Docket's normal hours of operation, and special arrangements should be made for deliveries of boxed information.

Instructions: Direct your comments to Docket ID no. EPA-HQ-SFUND-1983-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at:

U.S. Environmental Protection Agency, Region 9, Regional Records Center, 75 Hawthorne Street, Room 3110, San Francisco, CA 94105, (415) 947-8717, Monday-Thursday: 9:00 a.m.-12:00 p.m., 1:00 p.m.-4:00 p.m.

Or:

Sonoma County Library, Headquarters, 6135 State Farm Drive, Rohnert Park, California, (707) 545-0831, Call for hours of operation.

FOR FURTHER INFORMATION CONTACT: Olivia Trombadore, Remedial Project Manager, U.S. Environmental Protection Agency, Region 9, SFD-9-2, 75 Hawthorne St., San Francisco, CA, 94105, (415) 972-3973, trombadore.olivia@epa.gov.

SUPPLEMENTARY INFORMATION:

Table of Contents

I. Introduction

II. NPL Deletion Criteria

III. Deletion Procedures

IV. Basis for Intended Site Deletion

I. Introduction

EPA Region 9 announces its intent to delete the MGM Brakes Superfund Site from the National Priorities List (NPL) and requests public comment on this proposed action. The NPL constitutes Appendix B of 40 CFR part 300 which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

EPA will accept comments on the proposal to delete this site for thirty (30) days after publication of this document in the Federal Register.

Section II of this document explains the criteria for deleting sites from the NPL. Section III discusses procedures that EPA is using for this action. Section IV discusses the MGM Brakes Superfund Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

III. Deletion Procedures

The following procedures apply to deletion of the Site:

(1) EPA consulted with the State before developing this Notice of Intent to Delete.

(2) EPA has provided the state 30 working days for review of this notice prior to publication of it today.

(3) In accordance with the criteria discussed above, EPA has determined that no further response is appropriate.

(4) The State of California, through the Department of Toxic Substances Control, has concurred with deletion of the Site from the NPL.

(5) Concurrently with the publication of this Notice of Intent to Delete in the Federal Register, a notice is being published in a major local newspaper, The Coverdale Reveille. The newspaper notice announces the 30-day public comment period concerning the Notice of Intent to Delete the site from the NPL.

(6) The EPA placed copies of documents supporting the proposed deletion in the deletion docket and made these items available for public inspection and copying at the Site information repositories identified above.

If comments are received within the 30-day public comment period on this document, EPA will evaluate and respond appropriately to the comments before making a final decision to delete. If necessary, EPA will prepare a Responsiveness Summary to address any significant public comments received. After the public comment period, if EPA determines it is still appropriate to delete the Site, the Regional Administrator will publish a final Notice of Deletion in the Federal Register. Public notices, public submissions and copies of the Responsiveness Summary, if prepared, will be made available to interested parties and in the site information repositories listed above.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Intended Site Deletion

The following information provides EPA's rationale for deleting the Site from the NPL:

Site Background and History

MGM Brakes Superfund Site (CERCLIS ID: CAD000074120) was proposed to the National Priorities List (NPL) on 12/30/1982 (47 FR 58476), and finalized on 9/08/1983 (48 FR 40658). The Site is approximately 5-acres and is located in the City of Cloverdale, Sonoma County, California at 1201 South Cloverdale Boulevard. It is bounded on the south by light industrial facilities, including a beer brewing company and on the west by a vehicle storage yard. In May 1990, a Remedial Design/Remedial Action Consent Decree (CD) was entered into by the United States Environmental Protection Agency (EPA) and the potentially responsible parties (PRPs) TBG Inc. and Indian Head Industries, Inc. The CD defines the “Site” as Assessor's Parcels Numbers (APN) 38, 39, and 45 and portions of adjacent Parcels 62, 63, 71, and 72. Since the CD was issued, parcels 71 and 72 were subdivided and reassigned APNs 117-040-090, 117-040-093, 117-340-001 through 117-340-012, and 117-340-COM.

From 1962 until operations ceased in 1982, the MGM Brakes facility manufactured and cast aluminum brake components for large motor vehicles. The facility consisted of a casting plant building, seven above ground storage tanks, a cooling tower, and a storage shed. From 1965 until 1972, hydraulic fluids containing polychlorinated biphenyls (PCBs) were used in the casting machines. These hydraulic fluids leaked from the casting machines in the normal course of the plant's operations and were then collected in floor drains, together with water used to cool the dies between castings. Following gravity separation of oils and grease, the wastewater containing PCBs was discharged, via a drain line, to the ground adjacent to the casting plant. The practice of discharging wastewater onto the vacant fields surrounding the casting plant building is believed to be the main cause of PCB contamination at the Site.

PCB contamination was detected in surface water runoff, surface and subsurface soil, and inside the casting plant building. During investigations conducted from 1983 to 1988 volatile organic compounds (VOCs) were detected in groundwater. The detected VOCs were benzene, chlorobenzene, cis-1,2- dichloroethylene, 1,4-dichlorobenzene, 1,1-dichloroethene, 1,1,1-trichloroethane, trichloroethene (TCE), and vinyl chloride. TCE was the predominant VOC, as it was detected more frequently than other VOCs and at the highest concentrations.

Remedial actions for PCBs began in 1993 and included equipment removal, building demolition, concrete slab removal, removal of below-grade structures, and soil excavation. The soil excavation and backfill work was completed in 1994.

Remedial actions for the VOC-contaminated groundwater included installation of groundwater monitoring wells and monitored natural attenuation. Groundwater monitoring wells were installed in 1994 and groundwater monitoring was conducted from 1995 through 2013. All groundwater monitoring wells were removed by 2017 following the attainment of groundwater restoration cleanup levels for TCE.

The MGM Brakes site is not currently developed. However, in January 2018 the EPA included the MGM Brakes site on the Superfund Redevelopment Focus List and stated the site was “Ready for Reuse”.

Remedial Investigation and Feasibility Study (RI/FS)

EPA conducted a Remedial Investigation and Feasibility Study (RI/FS) from 1983 to 1988. The EPA conducted limited field investigations during the course of evaluating remedial alternatives. The original FS was initiated in 1985 and released in 1986. The original FS identified incineration as the EPA's preferred alternative for removing PCBs. Due to strong opposition to incineration, as well as other comments submitted during the public comment period, EPA decided to prepare a revised FS. In May 1988, EPA released the revised FS which evaluated a list of alternatives including capping, excavation and on-site fixation, in-situ fixation, on-site incineration, and excavation and off-site disposal. The preferred remedy, as stated in the May 1988 Proposed Plan, was excavation and off-site disposal of PCBs. No adverse comments were received during the public comment period regarding this remedy.

The remedial action objective (RAO) for PCB contaminated soils was to reduce the present and future on-site risk to human health and the environment to a 1 × 10−⁵ (1 in 100,000) cancer risk and provide unrestricted future use of the Site. RAOs also required restoration of groundwater to appropriate maximum contaminant levels (MCLs) or other health-based standard such that the total risk will not exceed 10−⁶.

Selected Remedy

In September 1988, EPA issued a Record of Decision (ROD) which selected as the Site remedy excavation and off-site disposal of soils with PCB concentrations above 10 milligrams per kilogram (mg/kg); demolition of the casting plant; and decontamination of PCB contaminated equipment and materials. In addition, PCBs in surface soil (defined as the uppermost 10 inches) could not exceed 1 mg/kg. The 1988 ROD also called for further investigation of the VOC-contaminated groundwater and restoration of groundwater within the Site boundaries to appropriate MCLs. The specific groundwater cleanup option was to be determined as a part of the remedial design. The 1988 ROD stated that the selected remedies were intended to reduce the present and future on-site risk to human health and the environment to a 1 × 10−⁵ (1 in 100,000) cancer risk and provide unrestricted future use of the property. This was to be achieved by removing and disposing of all soil exceeding a PCB concentration of 10 mg/kg. The 1988 ROD also required restoration of groundwater within the Site boundary to appropriate MCLs such that the total risk would not exceed 1 × 10−⁶.

In 1995 EPA issued an Explanation of Significant Differences (ESD) that selected monitored natural attenuation (MNA) as the groundwater remedy and established Federal MCLs as the cleanup levels. The 1995 ESD also revised the soil remedy to allow bedrock (deeper than 15 feet and below ground surface (bgs)) with PCB concentrations greater than 10 mg/kg and less than 100 mg/kg to be left in place and added the requirement for land use restrictions. A Covenant and Agreement to Restrict Use of Certain Property (1995 Covenant) was recorded in Sonoma County in July 1995 to restrict use of certain portions of the Site. The 1995 Covenant prohibited excavation of more than 1 cubic yard of soil from a depth greater than 15 feet bgs without following specific protocols set forth in the 1995 Covenant.

In the 2013 Five Year Review (2013 FYR) EPA determined that the site qualified for unlimited use and unrestricted exposure. In 2016 EPA issued a second ESD that removed the requirement for land use restrictions based on the 2013 FYR determination. The 2016 ESD noted that land use controls (LUCs) were included in a new Covenant and Environmental Restrictions on Property (2016 Covenant), recorded in Sonoma County on March 25, 2016. The 2016 Covenant is not incorporated into the Superfund remedy.

Remedial Actions

The remedial actions were implemented pursuant to the ROD, CD, and ESD. For the PCB-contaminated soil remedy, EPA determined that building demolition must be performed to access the contaminated soil, concrete beneath the casting plant building, and other structures. Equipment was removed from the building and, except for one piece, was disposed of off-site with demolition debris. One piece of equipment was decontaminated, documented as clean using wipe samples, and moved to a different facility. Demolition of the structure began in April 1992 and was completed in May 1992. The building debris was sampled for PCBs, found to be hazardous waste and subsequently shipped off-site to a permitted disposal facility, Kettleman Hills Class I Landfill.

The excavation work performed to remove and dispose of PCB-contaminated soil began in June 1993. Soils contaminated above 10 mg/kg were excavated to a depth of at least five feet for most of the Site, with limited highly contaminated areas being excavated to 29 feet; as noted above, a limited volume of deeper soil contained more than 10 mg/kg and less than 100 mg/kg PCBs. There were several below-grade structures that were removed as part of this excavation work. These included a small underground storage tank, two concrete sumps, three concrete pipes, and other associated underground piping.

Upon completion of the excavation and backfilling, stockpiled soil, debris, and other appurtenances were removed from the Site and disposed of at the appropriate facilities. All excavation field work was completed by June 1994.

For the VOC-contaminated groundwater remedy, construction activities included installation of groundwater monitoring wells.

Cleanup Levels

Monitoring for PCBs in Soil and Surface Water Runoff

Soil sampling and analysis for PCBs was conducted in and around the excavation to monitor the progress and establish extent of the excavation. The entire Site was divided into grid blocks 12.5 feet on each horizontal side by two feet vertically. Each grid block was given a unique identification number. Soil samples collected from the grid blocks were analyzed in an on-site mobile laboratory that provided screening results. A California certified laboratory was used to analyze all surface soil samples and splits of at least 20% of the samples. The verification analysis indicated that PCBs were less than or equal to the remedial clean up goal. For a minimum of 10% of the soil samples sent to the off-site laboratory, an EPA split soil sample was analyzed by EPA's contract laboratory. The data from screening analyses and verification analyses for PCBs in soil met the quality assurance and quality control goals set forth in the Remedial Action Quality Assurance Project Plan.

Soil was excavated from grids where screening analyses indicated that PCB concentrations were higher than the remedial goals, except for several grids where samples were collected from bedrock in the bottom of the excavation. As noted above, the 1995 ESD revised the soil remedy to allow these few grids to remain.

In accordance with the Final Excavation Monitoring Plan, post-construction surface runoff samples were collected at three locations on and near the Site within 24 hours of any rainfall event producing 1.0 inch or more of precipitation in a 24-hour period, as measured by the Cloverdale Fire Department. Forty-seven post-construction monitoring surface runoff samples were collected after completion of the excavation work. PCBs were not detected in any of the surface water runoff samples at or above a detection limit of 0.25 µg/L.

In March 1998, the EPA provided a Certificate of Completion for the demolition and excavation work, which documented EPA's conclusion that all portions of the Remedial Action (RA) for soil were completed in accordance with the ROD, CD, and ESD.

Investigation and Monitoring of Groundwater

In accordance with the ROD and CD, the groundwater RA included activities to locate the source of VOCs, and install additional wells to evaluate the extent of VOC contamination and monitor groundwater. Despite attempts to locate the source of VOC contamination in the groundwater, no source was identified. As described above, the 1995 ESD selected MNA as the groundwater remedy and defined a point of compliance to ensure contaminants did not move beyond the Site boundary at concentrations above MCLs. When the 1995 ESD was published, TCE was the only contaminant which remained above its MCL.

Groundwater monitoring for VOCs began in 1995 and continued through 2013 as follows:

• From 1995 through 1999, groundwater samples were collected from 12 wells and analyzed for VOCs. In addition, PCBs and semi-volatile organic compounds (SVOC) analyses were performed in 1998 and 1999. With EPA concurrence, one groundwater monitoring well was abandoned. The well was abandoned under permit from the Sonoma County Department of Environmental Health (SCDEH).

• From 2000 through 2006, groundwater samples were collected from 11 wells and analyzed for VOCs. In 2006, EPA approved the abandonment of nine wells at the Site. The wells were abandoned under permit from SCDEH.

• From 2006 through 2013 groundwater samples were collected from the two remaining wells, B-50 and B-73. The groundwater samples were analyzed for VOCs. In April 2017, after the attainment of TCE MCLs and with EPA concurrence, both wells were abandoned under permit from SCDEH.

The Final Groundwater Monitoring Report, was prepared after the 2013 sampling events. As described in the Draft Revised Final Remedy Certification Report for the VOC Groundwater Work, per 2014 EPA guidance, analysis of contaminant-specific data from the MGM Brakes Site provided a technical and scientific basis that:

1. The MCL for TCE was met in both remaining wells; and,

2. The groundwater would continue to meet the MCL for TCE in both remaining wells in the future.

In February 2018, the EPA provided a Certificate of Completion for the VOC Groundwater Work, which documented EPA's concurrence that all portions of the RA for groundwater were completed in accordance with the ROD, CD and ESD.

Operation and Maintenance

There are no ongoing monitoring activities for soil or groundwater. The 2016 ESD removed the requirement for institutional controls. There are no operation and maintenance activities required.

Five Year Review

The Third Five-Year Review Report for MGM Brakes Superfund Site, Cloverdale California, September 2013 (Third FYR) was the last five-year review completed at the Site. The Third FYR concluded that the Site remedy is protective of human health and the environment and that there are no issues that affect protectiveness in the short- or long-term. Furthermore, an evaluation completed during the Third FYR, and documented in the 2016 ESD, concluded that hazardous substances and pollutants had been removed to safe levels and that the site qualified for unlimited use and unrestricted exposure. Future FYRs are not required.

Community Involvement

The community has been involved in the MGM Brakes Superfund Cleanup throughout the remedial process. Comments were submitted in strong opposition to the original remedy suggested by the feasibility study in 1986. These comments were taken into consideration and EPA prepared a revised FS in May 1988 evaluating a list of alternative remedies, ultimately resulting in a different remedy for the Site. No adverse comments were received during the public comment period regarding this remedy.

Determine That the Site Meets the Criteria for Deletion in the NCP

In March 1998, the EPA provided a Certificate of Completion for the demolition and excavation work, which documented EPA's concurrence that all portions of the RA for soil were completed in accordance with the ROD, CD, and ESD. In February 2018, the EPA provided a Certificate of Completion for the VOC Groundwater Work, which documented EPA's concurrence that all portions of the RA for groundwater were completed in accordance with the ROD, CD and ESD. In the Third FYR and the 2016 ESD, EPA concluded that hazardous substances and pollutants had been removed to safe levels and that the site qualified for unlimited use and unrestricted exposure.

In February 2018, the Regional Water Quality Control Board of California determined that no further action (NFA) was required at the MGM Brakes Superfund Site located at 1201 South Cloverdale Boulevard, Cloverdale, California. A letter documenting the NFA status is included in the deletion docket. In December 2018 the Department of Toxic Substances Control issued a letter concurring with EPA's proposed deletion of the MGM Brakes Site from the National Priorities List. This letter is also included in the deletion docket.

The implemented remedy at the MGM Brakes Superfund Site has achieved the degree of cleanup specified in the ROD for all exposure pathways; and all selected remedial and removal action objectives and associated cleanup levels are consistent with agency policy and guidance. No further Superfund response is needed at the MGM Brakes Superfund Site to protect human health and the environment.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: April 30, 2019.
Michael Stoker,
Regional Administrator, Region 9.

[FR Doc. 2019-12771 Filed 6-17-19; 8:45 am]

BILLING CODE 6560-50-P